FEDERAL COMMUNICATIONS COMMISSION

47 CFR Part 73

[DA 02-1339; MB Docket No. 02-136; RM-10458]

Radio Broadcasting Services; Arlington, Moro, and The Dalles, OR; Covington and Trout Lake, WA

AGENCY: Federal Communications Commission.

ACTION: Proposed rule.

SUMMARY: This document requests comments on a petition for rule making filed on behalf of Mid-Columbia Broadcasting, Inc., licensee of Station KMCQ(FM) (“KMCQ”), Channel 283C, The Dalles, Oregon, and First Broadcasting Company, L.P. jointly (“Joint Parties”). First Broadcasting Company, L.P. holds an option to purchase Station KMCQ. The petition proposes to change the community of license of Station KMCQ from The Dalles, Oregon to Covington, Washington, and to downgrade that station's channel from Channel 283C to 283C3, pursuant to the provisions of Section 1.420(i) of the Commission's Rules. The Joint Parties also propose the allotments of Channel 283C1 to Moro, Oregon, Channel 261C2 to Arlington, Oregon, and Channel 226A to Trout Lake, Washington, as first local aural transmission services. The coordinates for requested Channel 283C3 at Covington, Washington, are 47-12-02 NL and 122-00-27 WL. The coordinates for requested Channel 283C1 at Moro, Oregon are 45-29-03 NL and 120-43-48 WL. The coordinates for requested Channel 261C2 at Arlington, Oregon are 45-43-01 NL and 121-11-59 WL. The coordinates for requested Channel 226A at Trout Lake, Washington, are 45-58-38 NL and 121-32-11 WL.

Petitioner's reallotment proposal complies with the provisions of Section 1.420(i) of the Commission's Rules, and therefore, the Commission will not accept competing expressions of interest in the use of Channel 283C3 at Covington, Washington, or require the petitioner to demonstrate the availability of an additional equivalent class channel.

DATES: Comments must be filed on or before July 29, 2002, and reply comments on or before August 13, 2002.

ADDRESSES: Secretary, Federal Communications Commission, 445 12th Street, SW., Room TW-A325, Washington, DC 20554. In addition to filing comments with the FCC, interested parties should serve the petitioner's counsel, as follows: J. Dominic Monahan, Esq., Luvaask Cobb Richards & Fraser, PC.; 777 High Street, Suite 300; Eugene, Oregon 97401 (Counsel for Mid-Columbia Broadcasting, Inc.) and Mark N. Lipp, Esq., Shook, Hardy & Bacon, LLP.; 600 14th Street, NW., Suite 800; Washington, DC 20005 (Counsel for First Broadcasting Company, L.P.)

FOR FURTHER INFORMATION CONTACT: R. Barthen Gorman, Media Bureau, (202) 418-2180.

SUPPLEMENTARY INFORMATION: This is a synopsis of the Commission's Notice of Proposed Rule Making, MB Docket No. 02-136, adopted May 29, 2002, and released June 7, 2002. The full text of this Commission decision is available for inspection and copying during regular business hours in the FCC's Reference Information Center at Portals II, 445 12th Street, SW., CY-A257, Washington, DC, 20554. This document may also be purchased from the Commission's duplicating contractors, Qualex International, Portals II, 445 12th Street, SW., Room CY-B402, Washington, DC, 20554, telephone 202-863-2893, facsimile 202-863-2898, or via e-mail qualexint@aol.com.

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Oregon, is amended by adding Arlington, Channel 261C2, and Moro, Channel 283C1, and removing Channel 283C at The Dalles.

3. Section 73.202(b), the Table of FM Allotments under Washington, is amended by adding Covington, Channel 283C3, and Trout Lake, Channel 226A.

Federal Communications Commission.
John A. Karousos,
Assistant Chief, Audio Division, Office of Broadcast License Policy, Media Bureau.

[FR Doc. 02-15670 Filed 6-20-02; 8:45 am]

BILLING CODE 6712-01-P